OFFICE OF PERSONNEL MANAGEMENT

Submission for OMB Review, Comment Request for Revision of a Currently Approved Collection: OPM Form 1496A

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for revision of a currently approved collection. OPM Form1496A, Application for Deferred Retirement (Separations on or after October 1, 1956) is used by eligible former Federal employees to apply for a deferred Civil Service annuity. Form OPM 1496 and OPM 1496A were needed for many years because there was a major revision in the law effective October 1, 1956; this affected the general information provided with both forms. However, we will no longer maintain a clearance of the OPM 1496, because the waning population affected by this form is fewer than ten respondents a year. We are requesting clearance of the revised OPM 1496A.

Approximately 2,800 OPM Forms 1496A will be completed annually. We estimate it takes approximately 1 hour to complete this form. The annual burden is 2,800 hours.

For copies of this proposal, contact Mary Beth Smith-Toomey on (202) 606-8358, FAX (202) 418-3251 or via E-mail to MaryBeth.Smith-Toomey@opm.gov. Please include a mailing address with your request.

DATES: Comments on this proposal should be received within 30 calendar days from the date of this publication.

ADDRESSES: Send or deliver comments to—

Ronald W. Melton, Deputy Assistant Director, Retirement Services Program, Center for Retirement and Insurance Services, U.S. Office of Personnel Management, 1900 E Street, NW., Room 3305, Washington, DC 20415-3500; and

Brenda Aguilar, OPM Desk Officer, Office of Information & Regulatory Affairs, Office of Management and Budget, New Executive Office Building, NW., Room 10235, Washington, DC 20503.

For Information Regarding Administrative Coordination—Contact: Cyrus S. Benson, Team Leader, Publications Team, RIS Support Services/Support Group, (202) 606-0623.

U.S. Office of Personnel Management.
Howard Weizmann,
Deputy Director.

[FR Doc. E7-24708 Filed 12-19-07; 8:45 am]

BILLING CODE 6325-38-P